JUDICIAL CONFERENCE OF THE UNITED STATES

Meeting of the Judicial Conference Advisory Committee on Rules of Criminal Procedure

AGENCY: Advisory Committee on Rules of Criminal Procedure, Judicial Conference of the United States.

ACTION: Notice of open meeting.

SUMMARY: The Advisory Committee on Rules of Criminal Procedure will hold a two day meeting. The meeting will be open to public observation but not participation.

DATES: April 16-17, 2007.

Time: 8:30 a.m. to 5 p.m.

ADDRESSES: Brooklyn Law School, 250 Joralemon Street, 11th Floor, Brooklyn, NY.

FOR FURTHER INFORMATION CONTACT: John K. Rabiej, Chief, Rules Committee Support Office, Administrative Office of the United States Courts, Washington, DC 20544, telephone (202) 502-1820.

Dated: February 27, 2007.
John K. Rabiej,
Chief, Rules Committee Support Office.

[FR Doc. 07-1043 Filed 3-6-07; 8:45 am]

BILLING CODE 2210-55-M